DEPARTMENT OF HOUSING AND URBAN DEVELOPMENT

[Docket No. FR-5285-N-33]

Notice of Proposed Information Collection: Comment Request; FHA-Insured Section 232 Mortgage Loan Origination and Underwriting

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: January 5, 2010.

ADDRESSES: Interested persons are invited to submit comments regarding this proposal. Comments should refer to the proposal by name and/or OMB Control Number and should be sent to: Lillian Deitzer, Departmental Reports Management Officer, QDAM, Department of Housing and Urban Development, 451 7th Street, SW., Washington, DC 20410; e-mail Lillian_L._Deitzer@HUD.gov or telephone (202) 402-8048.

FOR FURTHER INFORMATION CONTACT: John Whitehead, Office of Insured Health Care Facilities, Department of Housing and Urban Development, 451 7th Street, SW., Washington, DC 20410, telephone (202) 708-5790 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) evaluate the accuracy of the agency's estimate of the burden of the proposed collection of information; (3) enhance the quality, utility, and clarity of the information to be collected; and (4) minimize the burden of the collection of information on those who are to respond; including the use of appropriate automated collection techniques or other forms of information technology, e.g., permitting electronic submission of responses.

This Notice also lists the following information:

Title of Proposal: Insured Healthcare Facilities 232 Loan Application.

OMB Control Number, if applicable: 2502-New.

Description of the need for the information and proposed use: This information is being collected under Public Law 101-625, which requires the Department of Housing and Urban Development to implement a system for mortgage insurance for mortgages insured under Section 232, of the National Housing Act. The information will be used by HUD to approve rents, property appraisals, and determine the initial feasibility and acceptability for a proposed residential care facility to obtain FHA mortgage insurance.

Agency form numbers, if applicable: HUD 92013-NHICF, 92264-T, 92264-HCF.

Estimation of the total numbers of hours needed to prepare the information collection including number of respondents, frequency of response, and hours of response: The number of burden hours is 53,410. The number of respondents is 300, the number of responses is 1, the frequency of response is on occasion, and the burden hour per response is 178 for 290 respondents and 179 for 10 respondents.

Status of the proposed information collection: This is a new collection.

Authority: The Paperwork Reduction Act of 1995, 44 U.S.C., Chapter 35, as amended.

Dated: October 19, 2009.
Ronald Y. Spraker,
Acting General Deputy Assistant Secretary for Housing—Federal Housing Commissioner.

[FR Doc. E9-26773 Filed 11-5-09; 8:45 am]

BILLING CODE 4210-67-P